DEPARTMENT OF JUSTICE

Office of Justice Programs

[OJP (OJJDP) Docket No. 1556]

Meeting of the Federal Advisory Committee on Juvenile Justice

AGENCY: Office of Juvenile Justice and Delinquency Prevention, Office of Justice Programs, U. S. Department of Justice.

ACTION: Notice of meeting.

SUMMARY: The Office of Juvenile Justice and Delinquency Prevention (OJJDP) announces a meeting of the Federal Advisory Committee on Juvenile Justice (FACJJ).

Dates and Locations: The meeting will take place at the Gaylord National Hotel and Convention Center, 201 Waterfront Street, National Harbor, MD 20745, on Tuesday, October 11, 2011 from 8:30 a.m. to 5 p.m.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of representatives from the states and territories. FACJJ member duties include: reviewing Federal policies regarding juvenile justice and delinquency prevention; advising the OJJDP Administrator with respect to particular functions and aspects of OJJDP; and advising the President and Congress with regard to State perspectives on the operation of OJJDP and Federal legislation pertaining to juvenile justice and delinquency prevention. More information may be found at http://www.facjj.org.

Meeting Agenda: The agenda will include: (a) Welcome and introductions; (b) remarks from the Administrator; (c) an introduction to the FACJJ and overview of member roles and responsibilities; (d) overview of OJJDP; (e) strategies for working with non-member states and territories; (f) discussion of sub committee options and work products; (g) election of a chair and vice chair; (h) other business; and (i) adjournment.

For security purposes, members of the FACJJ and of the public who wish to attend must pre-register online at http://www.facjj.org by Tuesday, October 4, 2011. Should problems arise with web registration, call Daryel Dunston at 240-221-4343. [Note: these are not toll-free telephone numbers.] Photo identification will be required. Additional identification documents may be required. Space is limited.

Written Comments: Interested parties may submit written comments by Tuesday, October 4, 2011, to Robin Delany-Shabazz, Designated Federal Official for the Federal Advisory Committee on Juvenile Justice, OJJDP, at Robin.Delany-Shabazz@usdoj.gov. Alternatively, fax your comments to 202-307-2819 and call Joyce Mosso Stokes at 202-305-4445 to ensure its receipt. [Note: These are not toll-free numbers.] No oral presentations will be permitted though written questions or comments may be invited.

Dated: August 24, 2011.
Jeff Slowikowski,
Acting Administrator, Office of Juvenile Justice and Delinquency Prevention.

[FR Doc. 2011-22132 Filed 8-29-11; 8:45 am]

BILLING CODE 4410-18-P